DEPARTMENT OF COMMERCE

National Oceanic and Atmospheric Administration

RIN 0648-XE560

Marine Mammals; File Nos. 19436 and 19592

AGENCY: National Marine Fisheries Service (NMFS), National Oceanic and Atmospheric Administration (NOAA), Commerce.

ACTION: Notice; issuance of permits.

SUMMARY: Notice is hereby given that permits have been issued to the Aleut Community of St. Paul Island, Tribal Government, Ecosystem Conservation Office [File No. 19436], 2050 Venia Minor Road, P.O. Box 86, St. Paul Island, AK 99660 [Responsible Party: Pamela Lestenkof], and the St. George Traditional Council, Ecosystem Conservation Office [File No. 19592], P.O. Box 940, St. George Island, Alaska 99591 [Responsible Party: Chris Merculief], to conduct research on and export specimens of northern fur seals (Callorhinus ursinus), Steller sea lions (Eumetopias jubatus), harbor seals (Phoca vitulina) for scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa González or Amy Sloan, (301) 427-8401.

SUPPLEMENTARY INFORMATION: On May 9, 2016, notice was published in the Federal Register (81 FR 28052) that requests for permits to conduct research on and export specimens of northern fur seals (Callorhinus ursinus), Steller sea lions (Eumetopias jubatus) and harbor seals (Phoca vitulina) for scientific research had been submitted by the above-named applicants. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permits (Nos. 19436 and 19592) authorize the Permit Holders to perform a series of activities to fulfill their Biosampling, Entanglement/Disentanglement, and Island Sentinel Program responsibilities as established under the co-management agreements between NMFS and the Aleut Communities. See tables in the permits for authorized numbers of takes by species, stock and activity. The permits are valid until September 30, 2021.

In compliance with the National Environmental Policy Act of 1969 (42 U.S.C. 4321 et seq.), NMFS has determined that the activities proposed are consistent with the Preferred Alternative in the Final Programmatic Environmental Impact Statement for Steller Sea Lion and Northern Fur Seal Research (NMFS 2007), and the Environmental Assessment for Issuance of Permits to take Steller Sea Lions by harassment during surveys using unmanned aerial systems (NMFS 2014), and that issuance of the permits would not have a significant adverse impact on the human environment.

As required by the ESA, issuance of the permits was based on a finding that such permits: (1) Were applied for in good faith; (2) will not operate to the disadvantage of such endangered species; and (3) are consistent with the purposes and policies set forth in section 2 of the ESA.

Dated: September 22, 2016.
Julia Harrison,
Chief, Permits and Conservation Division, Office of Protected Resources, National Marine Fisheries Service.

[FR Doc. 2016-23316 Filed 9-27-16; 8:45 am]

BILLING CODE 3510-22-P